DEPARTMENT OF HOUSING AND URBAN DEVELOPMENT

[Docket No. FR-4800-FA-08]

Housing Counseling Program Announcement of Funding Awards for Fiscal Year 2003

AGENCY: Office of the Assistant Secretary for Housing—Federal Housing Commissioner, HUD.

ACTION: Announcement of funding awards.

SUMMARY: In accordance with section 102(a)(4)(C) of the Department of Housing and Urban Development Reform Act of 1989, this announcement notifies the public of funding decisions made by the Department in a SuperNOFA competition for funding of HUD-approved counseling agencies to provide counseling services. This announcement contains the names and addresses of the agencies selected for funding and the award amounts. Additionally, this announcement outlines noncompetitive housing counseling grants made by the Department.

FOR FURTHER INFORMATION CONTACT: Loyd LaMois, Director, Program Support Division, Room 9274, Office of Single Family Housing, Department of Housing and Urban Development, 451 Seventh Street, SW., Washington, DC 20410, telephone (202) 708-0317. Hearing- or speech-impaired individuals may access this number by calling the Federal Information Relay Service on 1-800-877-8339 or (202) 708-9300. (With the exception of the “800” number, these are not toll free numbers.)

SUPPLEMENTARY INFORMATION: The Housing Counseling Program is authorized by Section 106 of the Housing and Urban Development Act of 1968 (12 U.S.C. 1701x). The Catalog of Federal Domestic Assistance number for the Housing Counseling program is 14.169. HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to help individuals and families improve their housing conditions and meet the responsibilities of tenancy and homeownership.

HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

The 2003 grantees announced in Appendix A of this notice were selected for funding through a competition announced in a Notice of Funding Availability published in the Federal Register on April 25, 2003, (68 FR 21002) for the housing counseling program. Submitted applications were scored and selected for funding on the basis of selection criteria contained in the notice. HUD awarded $37,561,000 in housing counseling grants to 363 housing counseling organizations nationwide: 330 local agencies, 17 intermediaries, and 16 State housing finance agencies. A total of $2.7 million was awarded to four intermediaries, three State housing finance agencies (SHFAs) and thirty one local housing counseling agencies (LHCAs) for the purpose of combating predatory lending. A total of $2 million was awarded to four intermediaries, four SHFAs and thirty-one LHCAs for counseling in conjunction with HUD's Section 8 Homeownership Voucher Program. HUD also awarded 2 competitive housing counseling grants, totaling $250,000, to provide counseling services to families and individuals living in the Colonias, unincorporated communities in the southwest border region of the United States. These grants were awarded to West Tennessee Legal Services in the amount of $220,000 and Community Development Corporation of Brownsville, TX in the amount of $30,000.

Finally, HUD awarded two noncompetitive grants totaling $1,038,638. HUD awarded $998,638 to the American Association of Retired Persons (AARP) to provide housing counseling services related to the HUD's Home Equity Conversion Mortgage (HECM) Program. The award satisfies a Congressional mandate to improve counseling in the HECM program. In 1999, Congress mandated that HUD set aside up to $1 million a year of the housing counseling funding for HECM counseling. The year 2003 was the last year of set-aside. An additional $40,000 was awarded to the Cabarrus County Community Development Corporation, a HUD-approved Housing Counseling Agency in Concord, North Carolina to help families affected by the closing of the Pillowtex textile manufacturing plant in Kannapolis, North Carolina.

In accordance with section 102(a)(4)(C) of the Department of Housing and Urban Development Reform Act of 1989 (103 Stat. 1987, 42 U.S.C. 3545), the Department is publishing the names, addresses, and award amounts as provided in Appendix A.

Dated: February 2, 2004.
Sean Cassidy,
General Deputy Assistant Secretary for Housing—Federal Housing, Commissioner.

Appendix A—Fiscal Year 2003 Funding Awards for the Housing Counseling Program

Intermediary Organizations (17)

AARP Foundation

601 E. Street, NW, Washington, DC 20049.

Grant Type: Comprehensive

Amount Awarded: $894,161.00

Grant Type: HECM

Amount Awarded: $998,638.00

Acorn Housing Corporation

846 N. Broad Street, Philadelphia, PA 19130.

Grant Type: Comprehensive

Amount Awarded: $2,024,511.00

Catholic Charities USA

1731 King Street, Suite 200, Alexandria, VA 22314.

Grant Type: Comprehensive

Amount Awarded: $1,019,756.00

Citizens' Housing and Planning Association, Inc.

18 Tremont Street, Suite 401, Boston, MA 02108.

Grant Type: Comprehensive

Amount Awarded: $750,000.00

Community Housing Services, Inc.

1012 N. Street, NW, Washington, DC 20001.

Grant Type: Comprehensive

Amount Awarded: $266,189.00

HomefreeUSA, Inc.

318 Riggs Road, NE, Washington, DC 20011.

Grant Type: Comprehensive

Amount Awarded: $391,783.00

Housing Opportunities, Inc.

133 Seventh Avenue, P.O. Box 9, McKeesport, PA 15132.

Grant Type: Comprehensive

Amount Awarded: $888,600.00

Mission of Peace Housing Counseling Agency

877 East Fifth Avenue, Flint, MI 48503.

Grant Type: Comprehensive

Amount Awarded: $894,161.00

National Association of Real Estate Brokers

1301 East 85th Avenue, Oakland, CA 94621-1605.

Grant Type: Comprehensive

Amount Awarded: $517,378.00

National Council of La Raza

1111 19th Street, NW, Suite 1000, Washington, DC 20036.

Grant Type: Comprehensive

Amount Awarded: $1,647,728.00

National Credit Union Foundation

601 Pennsylvania Avenue, NW, Suite 600, South Building, Washington, DC 20004.

Grant Type: Comprehensive

Amount Awarded: $266,214.00

National Foundation for Credit Counseling

801 Roeder Road, Suite 900, Silver Spring, MD 20910.

Grant Type: Comprehensive

Amount Awarded: $2,401,294.00

National Urban League

120 Wall Street, New York, NY 10005.

Grant Type: Comprehensive

Amount Awarded: $894,161.00

Neighborhood Reinvestment Corporation

1325 G Street, NW, Suite 800, Washington, DC 20005.

Grant Type: Comprehensive

Amount Awarded: $2,150,106.00

Structured Employment Economic Development Corporation—SEEDCO

915 Broadway, 17th Floor, New York, NY 10010.

Grant Type: Comprehensive

Amount Awarded: $768,566.00

The Housing Partnership Network, Inc.

160 State Street, 5th Floor, Boston, MA 02109.

Grant Type: Comprehensive

Amount Awarded: $1,898,917.00

West Tennessee Legal Services, Inc.

27-A Brentshire Square, P.O. Box 2066, Jackson, TN 38301-2066.

Grant Type: Comprehensive

Amount Awarded: $487,500.00

State Housing Finance Agencies (16)

Atlanta (SHFA)

Georgia Housing and Finance Authority

60 Executive Park South, NE, Atlanta, GA 30329-2231.

Grant Type: Comprehensive

Amount Awarded: $147,388.00

Kentucky Housing Corporation

1231 Louisville Road, Frankfort, KY 40601.

Grant Type: Comprehensive

Amount Awarded: $150,000.00

Mississippi Home Corporation

P.O. Box 23369, 735 Riverside Drive, Jackson, MS 39225-3369.

Grant Type: Comprehensive

Amount Awarded: $115,200.00

North Carolina Housing Finance Agency

P.O. Box 28066, 3508 Bush Street, Raleigh, NC 27611-8066.

Grant Type: Comprehensive

Amount Awarded: $30,000.00

Tennessee Housing Development Agency

404 James Robertson Pkwy, Suite 1114, Nashville, TN 37243-0900.

Grant Type: Comprehensive

Amount Awarded: $75,000.00

Denver (SHFA)

North Dakota Housing Finance Agency

P.O. Box 1535, Bismarck, ND 58502-1535.

Grant Type: Comprehensive

Amount Awarded: $85,000.00

South Dakota Housing Development Authority

P.O. Box 1237, Pierre, SD 57501-1237.

Grant Type: Comprehensive

Amount Awarded: $100,000.00

Philadelphia (SHFA)

Connecticut Housing Finance Agency

999 West Street, Rocky Hill, CT 06067.

Grant Type: Comprehensive

Amount Awarded: $28,263.00

Maine State Housing Authority

353 Water Street, Augusta, ME 04330-4633.

Grant Type: Comprehensive

Amount Awarded: $94,575.00

Maryland Department of Housing and Community Development

100 Community Place, Crownsville, MD 21032.

Grant Type: Comprehensive

Amount Awarded: $28,263.00

New Hampshire Housing Finance Authority

32 Constitution Drive, Hillsborough, NH 03110.

Grant Type: Comprehensive

Amount Awarded: $40,000.00

Pennsylvania Housing Finance Agency

2101 North Front St., Harrisburg, PA 17105.

Grant Type: Comprehensive

Amount Awarded: $57,500.00

Rhode Island Housing and Mortgage Finance Corporation

44 Washington St., Providence, RI 02903.

Grant Type: Comprehensive

Amount Awarded: $128,000.00

State of Michigan

735 E. Michigan, P.O. Box 30044-MSHDA, Lansing, MI 48909.

Grant Type: Comprehensive

Amount Awarded: $100,000.00

Virginia Housing Development Authority

601 S. Belvidere St., Richmond, VA 23220.

Grant Type: Comprehensive

Amount Awarded: $114,469.00

Santa Ana (SHFA)

Washington State Housing Finance Commission

1000 Second Ave., Suite 2700, Seattle, WA 98104-1046.

Grant Type: Comprehensive

Amount Awarded: $334,776.00

Local Organizations (330)

Atlanta (HOC)

Access Living of Metropolitan Chicago

614 West Roosevelt Road, Chicago, IL 60607.

Grant Type: Comprehensive

Amount Awarded: $35,303.00

Affordable Housing Coalition

34 Wall Street, Suite 607, Asheville, NC 28801.

Grant Type: Comprehensive

Amount Awarded: $58,091.00

Affordable Housing Corporation

601 S. Adams Street, Marion, IN 46953.

Grant Type: Comprehensive

Amount Awarded: $24,687.00

Alabama Council on Human Relations

P.O. Drawer 1632, 319 West Glenn Avenue, Auburn, AL 36831-1632.

Grant Type: Comprehensive

Amount Awarded: $18,000.00

Anderson Housing Authority

528 West 11th Street, Anderson, IN 46016.

Grant Type: Comprehensive

Amount Awarded: $40,000.00

Appalachian Housing and Redevelopment Corporation

800 North 5th Ave., Rome, GA 30162.

Grant Type: Comprehensive

Amount Awarded: $41,007.00

Cabarrus County CDC

P.O. 1095, Concord, NC 28026.

Grant Type: Comprehensive

Amount Awarded: $43,000.00

Campbellsville Housing and Redevelopment Authority

P.O. Box 597, 400 Ingram Ave., Campbellsville, KY 42718.

Grant Type: Comprehensive

Amount Awarded: $18,980.00

Carolina Regional Legal Services, Inc.

279 West Evans Street, Florence, SC 29503-0479.

Grant Type: Comprehensive

Amount Awarded: $44,832.00

Catholic Charities, Inc.

1325 Jefferson Avenue, Memphis, TN 38104.

Grant Type: Comprehensive

Amount Awarded: $21,629.00

CCCS of Northwest Indiana, Inc.

3637 Grant Street, Gary, IN 46408.

Grant Type: Comprehensive

Amount Awarded: $35,000.00

CCCS/Family Services

4925 Lacross Road, Suite 215, North Charleston, SC 29406.

Grant Type: Comprehensive

Amount Awarded: $31,573.00

CEFS Economic Opportunity Corporation

1805 S. Banker Street, P.O. Box 928, Effingham, IL 62401.

Grant Type: Comprehensive

Amount Awarded: $20,200.00

CEIBA Housing and Economic Development Corporation

Ave. Lauro Pinero #252 (Altos), P.O. Box 203, Ceiba, PR 00735.

Grant Type: Comprehensive

Amount Awarded: $40,000.00

Central Florida Community Development Corp.

P.O. Box 15065, Daytona Beach, FL 32115.

Grant Type: Comprehensive

Amount Awarded: $25,000.00

Chicago Commons Housing Resource

3645 West Chicago Avenue, Chicago, IL 60651.

Grant Type: Comprehensive

Amount Awarded: $18,315.00

Choanoke Area Development Association of NC, Inc.

P.O. Box 530, Rich Square, NC 27869.

Grant Type: Comprehensive

Amount Awarded: $34,887.00

Citizens For Affordable Housing, Inc.

1719 West End Avenue, Suite 322W, Nashville, TN 37203.

Grant Type: Comprehensive

Amount Awarded: $18,315.00

City of Albany, Georgia

230 S. Jackson St., Suite 315, Albany, GA 31701.

Grant Type: Comprehensive

Amount Awarded: $30,000.00

City of Bloomington Housing

P.O. Box 100, 401 North Morton Street, Bloomington, IN 47402.

Grant Type: Comprehensive

Amount Awarded: $35,812.00

Cobb Housing, Inc.

700 Sandy Plains Road, Suite B-8, Marietta, GA 30066.

Grant Type: Comprehensive

Amount Awarded: $25,000.00

Community Action & Community Development Agency

P.O. Box 1788, 207 Commerce Circle, SW, Decatur, AL 35601.

Grant Type: Comprehensive

Amount Awarded: $77,979.00

Community Action Agency of Northwest Alabama

745 Thompson Street, Florence, AL 35630.

Grant Type: Comprehensive

Amount Awarded: $15,000.00

Community Action Partnership, Huntsville/Madison

P.O. Box 3975, 3516 Stringfield Road, Huntsville, AL 35810.

Grant Type: Comprehensive

Amount Awarded: $41,228.00

Community and Economic Development Assoc. of Cook County

208 South LaSalle, Suite 1900, Chicago, IL 60604-1001.

Grant Type: Comprehensive

Amount Awarded: $71,350.00

Community Enterprise Investments, Inc.

302 N. Barcelona Street, Pensacola, FL 32501.

Grant Type: Comprehensive

Amount Awarded: $23,000.00

Community Housing Initiative, Inc.

P.O. Box 410522, Melbourne, FL 32941-0522.

Grant Type: Comprehensive

Amount Awarded: $18,870.00

Community Investment Corporation of Decatur, Inc.

2121 S. Imboden Court, Decatur, IL 62521.

Grant Type: Comprehensive

Amount Awarded: $31,573.00

Community Service Programs of West Alabama, Inc.

601 17th Street, Tuscaloosa, AL 35401.

Grant Type: Comprehensive

Amount Awarded: $34,887.00

Consumer Credit Counseling Service of Central Indiana

615 N. Alabama Street, Suite 134, Indianapolis, IN 46204-1477.

Grant Type: Comprehensive

Amount Awarded: $48,147.00

Consumer Credit Counseling Service of Florida Gulf Coast, Inc.

200 S. Hoover, Tampa, FL 33609.

Grant Type: Comprehensive

Amount Awarded: $87,100.00

Consumer Credit Counseling Service of Forsyth County, Inc.

8064 North Point Boulevard, Suite 204, Winston-Salem, NC 27106.

Grant Type: Comprehensive

Amount Awarded: $50,000.00

Consumer Credit Counseling Service of Western North Carolina

50 South French Broad Ave., Suite 227, Asheville, NC 28801.

Grant Type: Comprehensive

Amount Awarded: $50,000.00

Cooperative Resource Center, Inc.

191 Edgewood Avenue SE, Atlanta, GA 30303.

Grant Type: Comprehensive

Amount Awarded: $15,000.00

Cumberland Community Action Program, Inc.

P.O. Box 2009, 316 Green Street, Fayetteville, NC 28302.

Grant Type: Comprehensive

Amount Awarded: $40,000.00

Davidson County Community Action, Inc.

P.O. Box 389, 701 South Salisbury Street, Lexington, NC 27292-0389.

Grant Type: Comprehensive

Amount Awarded: $24,945.00

DeKalb Fulton Housing Counseling Center, Inc.

4151 Memorial Drive, Suite 107-E, Decatur, GA 30032.

Grant Type: Comprehensive

Amount Awarded: $21,629.00

DuPage Homeownership Center, Inc.

1333 North Main Street, Wheaton, IL 60187.

Grant Type: Comprehensive

Amount Awarded: $40,000.00

East Athens Development Corporation, Inc.

410 McKinley Drive, Suite 101, Athens, GA 30601.

Grant Type: Comprehensive

Amount Awarded: $15,000.00

Economic Opportunity for Savannah-Chatham County Area, Inc.

618 West Anderson Street, P.O. Box 1353, Savannah, GA 31415.

Grant Type: Comprehensive

Amount Awarded: $51,460.00

Elizabeth City State University

1704 Weeksville Road, Campus Box 761, Elizabeth City, NC 27909.

Grant Type: Comprehensive

Amount Awarded: $35,516.00

Family and Children's Services of Chattanooga, Inc.

5704 Marlin Road, Suite 2300, Chattanooga, TN 37411.

Grant Type: Comprehensive

Amount Awarded: $30,000.00

Family Counseling Center

220 Coral Sands Drive, Rockledge, FL 32955.

Grant Type: Comprehensive

Amount Awarded: $39,960.00

Family Service Center

1800 Main Street, Columbia, SC 29201.

Grant Type: Comprehensive

Amount Awarded: $54,777.00

Gainesville-Hall County Neighborhood Revitalization

P.O. Box 642, 924 Athens Street, Gainesville, GA 30503.

Grant Type: Comprehensive

Amount Awarded: $39,000.00

Goldenrule Housing & Community Development

417 East 2nd Street, Sanford, FL 32771.

Grant Type: Comprehensive

Amount Awarded: $58,091.00

Goodwill Industries Manastoa, Inc.

8490 Lockwood Ridge Road, Sarasota, FL 34243.

Grant Type: Comprehensive

Amount Awarded: $40,000.00

Greater Ocala Community Development Corp.

P.O. Box 5582, Ocala, FL 34478.

Grant Type: Comprehensive

Amount Awarded: $15,000.00

Greensboro Housing Coalition, Incorporated

122 N. Elm Street, Suite 608, Greensboro, NC 27401.

Grant Type: Comprehensive

Amount Awarded: $44,832.00

Greenville County Human Relations Commission

301 University Ridge, Suite 1600, Greenville, SC 29601.

Grant Type: Comprehensive

Amount Awarded: $51,460.00

Gulf Coast Community Action Agency, Inc.

500 24th Street, P.O. Box 519, Gulfport, MS 39502-0519.

Grant Type: Comprehensive

Amount Awarded: $38,203.00

Gwinnett Housing Resource Partnership, Inc.

2825 Breckinridge Boulevard, Suite 160, Duluth, GA 30096.

Grant Type: Comprehensive

Amount Awarded: $54,777.00

Hammond Housing Authority

7329 Columbia Circle—West, Hammond, IN 46324.

Grant Type: Comprehensive

Amount Awarded: $31,573.00

Haven Economic Development, Inc.

8606 State Road 84, Davie, FL 33324.

Grant Type: Comprehensive

Amount Awarded: $35,000.00

HCP of Illinois, Inc.

407 S. Dearborn, Suite 1735, Chicago, IL 60605.

Grant Type: Comprehensive

Amount Awarded: $36,000.00

Highland Family Resource Center, Inc.

P.O. Box 806, Gastonia, NC 28053.

Grant Type: Comprehensive

Amount Awarded: $36,000.00

Homekeeping Mortgage Default Counseling

414 Martin Luther King Jr. Drive, Greensboro, NC 27406.

Grant Type: Comprehensive

Amount Awarded: $21,629.00

Homes In Partnership, Inc.

235 E. Fifth Street, P.O. Box 761, Apopka, FL 32704-0761.

Grant Type: Comprehensive

Amount Awarded: $43,000.00

Hoosier Uplands Economic Development Corporation

521 West Main Street, Mitchell, IN 47446.

Grant Type: Comprehensive

Amount Awarded: $15,000.00

Hope of Evansville, Inc.

608 Cherry Street, Evansville, IN 47713.

Grant Type: Comprehensive

Amount Awarded: $31,573.00

Housing and Economic Leadership Partners, Inc.

485 Huntington Road, Suite 200, Athens, GA 30606.

Grant Type: Comprehensive

Amount Awarded: $21,629.00

Housing and Neighborhood Dev. Serv of Central Florida

6900 S. Orange Blossom Trail, Orlando, FL 32809.

Grant Type: Comprehensive

Amount Awarded: $48,147.00

Housing Authority of the Birmingham District

1826 3rd Avenue South, Birmingham, AL 35233.

Grant Type: Comprehensive

Amount Awarded: $44,832.00

Housing Authority of the City of Fort Wayne

2013 South Anthony Boulevard, Fort Wayne, IN 46803.

Grant Type: Comprehensive

Amount Awarded: $33,899.00

Housing Authority of the County of Lake

33928 North Route 45, Grayslake, IL 60030.

Grant Type: Comprehensive

Amount Awarded: $19,967.00

Housing Development Corporation of St. Joseph County

1200 County City Building, South Bend, IN 46601.

Grant Type: Comprehensive

Amount Awarded: $22,475.00

Housing Education and Economic Development

3405 Medgar Evers Blvd., Jackson, MS 39213.

Grant Type: Comprehensive

Amount Awarded: $21,629.00

Indianapolis Urban League

777 Indiana Avenue, Indianapolis, IN 46202.

Grant Type: Comprehensive

Amount Awarded: $20,000.00

Jefferson County Committee for Economic Opportunity

300 Eighth Ave. West, Birmingham, AL 35204-3039.

Grant Type: Comprehensive

Amount Awarded: $40,000.00

a

Jefferson County Housing Authority

3700 Industrial Parkway, Birmingham, AL 35217.

Grant Type: Comprehensive

Amount Awarded: $31,573.00

Johnston-Lee Community Action, Inc.

P.O. Drawer 711, 1102 Massey Street, Smithfield, NC 27577.

Grant Type: Comprehensive

Amount Awarded: $20,000.00

Lake County

2293 North Main Street, Crown Point, IN 46307.

Grant Type: Comprehensive

Amount Awarded: $25,000.00

Latin American Association

2750 Buford Hwy., Atlanta, GA 30324.

Grant Type: Comprehensive

Amount Awarded: $18,315.00

Latin United Community Housing Association

3541 W. North Avenue, Chicago, IL 60647.

Grant Type: Comprehensive

Amount Awarded: $51,460.00

Legal Assistance Foundation of Chicago

111 West Jackson Blvd., Chicago, IL 60604.

Grant Type: Comprehensive

Amount Awarded: $54,777.00

Lincoln Hills Development Corporation

302 Main Street, P.O. Box 336, Tell City, IN 47586.

Grant Type: Comprehensive

Amount Awarded: $15,380.00

Manatee Coalition for Affordable Housing, Inc.

319 6th Avenue West, Bradenton, FL 34205.

Grant Type: Comprehensive

Amount Awarded: $18,315.00

Manatee Opportunity Council, Inc.

369 6th Avenue West, Bradenton, FL 34205-8820.

Grant Type: Comprehensive

Amount Awarded: $43,240.00

Memphis Area Legal Services

109 N. Main, Suite 200, Memphis, TN 38103-5013.

Grant Type: Comprehensive

Amount Awarded: $68,035.00

Miami Beach Community Development Corporation

945 Pennsylvania Avenue, 2nd Floor, Miami Beach, FL 33139.

Grant Type: Comprehensive

Amount Awarded: $38,203.00

Mid-Florida Housing Partnership, Inc.

330 North Street, Daytona Beach, FL 32114.

Grant Type: Comprehensive

Amount Awarded: $37,000.00

Middle Georgia Community Action Agency, Inc.

P.O. Box 2286, 121 Prince Street, Warner Robins, GA 31099.

Grant Type: Comprehensive

Amount Awarded: $15,000.00

Mobile Housing Board

151 South Claiborne Street, P.O. Box 1345, Mobile, AL 36602-1345.

Grant Type: Comprehensive

Amount Awarded: $48,147.00

Monroe-Union County Community

349 East Franklin Street, P.O. Box 887, Monroe, NC 28111.

Grant Type: Comprehensive

Amount Awarded: $40,000.00

Muncie Homeownership and Development Center

407 South Walnut Street, Muncie, IN 47305.

Grant Type: Comprehensive

Amount Awarded: $50,000.00

Neighborhood Housing Opportunities, Inc.

1548 Poplar Avenue, Memphis, TN 38104.

Grant Type: Comprehensive

Amount Awarded: $12,000.00

Neighborhood Housing Services of Chicago, Inc.

1279 N. Milwaukee, 5th Floor, Chicago, IL 60622.

Grant Type: Comprehensive

Amount Awarded: $34,887.00

Northwestern Regional Housing Authority

P.O. Box 2510, 869 Hwy. 105 Ext., Boone, NC 28607.

Grant Type: Comprehensive

Amount Awarded: $40,848.00

Ocala Housing Authority

233 S.W. 3rd Street, Ocala, FL 34474.

Grant Type: Comprehensive

Amount Awarded: $35,000.00

Olive Hill Comm ECO Dev Corp, Inc

P.O. Box 4008, Morganton, NC 28680.

Grant Type: Comprehensive

Amount Awarded: $21,629.00

Organized Community Action Program

P.O. Box 908, Troy, AL 36081.

Grant Type: Comprehensive

Amount Awarded: $30,000.00

Purchase Area Housing Corporation

P.O. Box 158, 1002 Medical Drive, Mayfield, KY 42066.

Grant Type: Comprehensive

Amount Awarded: $24,945.00

Reach, Inc

126 North Broadway, Lexington, KY 40507.

Grant Type: Comprehensive

Amount Awarded: $48,147.00

Realtor-Community Housing Foundation

2250 Regency Road, Lexington, KY 40503.

Grant Type: Comprehensive

Amount Awarded: $20,000.00

River City Community Development Corporation

501 E. Main Street, Elizabeth City, NC 27909.

Grant Type: Comprehensive

Amount Awarded: $21,629.00

Rogers Park Community Development

1530 W. Morse Avenue, Chicago, IL 60626.

Grant Type: Comprehensive

Amount Awarded: $40,000.00

Sacred Heart Southern Missions Housing Corp.

6144 Highway 161 North, P.O. Box 365, Walls, MS 38680.

Grant Type: Comprehensive

Amount Awarded: $41,518.00

Sandhills Community Acton Program, Inc.

103 Saunders Street, P.O. Box 937, Carthage, NC 28327.

Grant Type: Comprehensive

Amount Awarded: $61,405.00

South Suburban Housing Center

18220 Harwood Avenue, Suite 1, Homewood, IL 60430.

Grant Type: Comprehensive

Amount Awarded: $36,000.00

Statesville Housing Authority

110 West Allison Street, Statesville, NC 28677.

Grant Type: Comprehensive

Amount Awarded: $28,259.00

Tallahassee Lenders' Consortium Inc.

1114 East Tennessee Street,

Tallahassee, FL 32308.

Grant Type: Comprehensive

Amount Awarded: $30,000.00

Tallahassee Urban League, Inc.

923 Old Bainbridge Road, Tallahassee, FL 32303.

Grant Type: Comprehensive

Amount Awarded: $38,203.00

Tenant Services & Housing Counseling, Inc.

258 Clark Street, Lexington, KY 40507.

Grant Type: Comprehensive

Amount Awarded: $30,000.00

The Center For Affordable Housing, Inc.

2524 S. Park Drive, Sanford, FL 32773.

Grant Type: Comprehensive

Amount Awarded: $33,000.00

The Housing Authority of the City of Montgomery

1020 Bell Street, Montgomery, AL 36104-3056.

Grant Type: Comprehensive

Amount Awarded: $40,000.00

Trident United Way

6296 Rivers Avenue, P.O. Box 63305, North Charleston, SC 29419.

Grant Type: Comprehensive

Amount Awarded: $15,000.00

TSP Hope, Inc.

1507 E. Cook Street, Springfield, IL 62703.

Grant Type: Comprehensive

Amount Awarded: $18,315.00

Unified Government of Athens-Clarke County

P.O. Box 1868, 375 Satula Ave., Athens, GA 30601.

Grant Type: Comprehensive

Amount Awarded: $15,000.00

Vollintine Evergreen Community Association (VECA)—CDC

1680 Jackson Avenue, Memphis, TN 38107.

Grant Type: Comprehensive

Amount Awarded: $38,203.00

Wateree Community Action, Inc.

13 South Main Street, Sumter, SC 29150.

Grant Type: Comprehensive

Amount Awarded: $30,000.00

West Perrine Community Development Corporation

17785 Homestead Avenue, Miami, FL 33157.

Grant Type: Comprehensive

Amount Awarded: $28,259.00

Western Piedmont Council of Governments

P.O. Box 9026, Hickory, NC 28603.

Grant Type: Comprehensive

Amount Awarded: $25,350.00

Will County Center For Community Concerns

304 N. Scott Street, Joliet, IL 60432.

Grant Type: Comprehensive

Amount Awarded: $15,000.00

Wilmington Housing Finance and Development

P.O. Box 547, 310 North Front Street, Wilmington, NC 28402.

Grant Type: Comprehensive

Amount Awarded: $50,000.00

Wilson Community Improvement Association, Inc.

504 E. Green Street, Wilson, NC 27893.

Grant Type: Comprehensive

Amount Awarded: $40,000.00

Woodbine Community Organization

222 Oriel Avenue, Nashville, TN 37210.

Grant Type: Comprehensive

Amount Awarded: $62,150.00

Colonias

Community Development Corp. of Brownsville

901 E. Levee St., Brownsville, TX 78520.

Grant Type: Colonias

Amount Awarded: $30,000.00

West Tennessee Legal Services

27-A Brentshire Square, P.O. Box 2066, Jackson, TN 38302.

Grant Type: Colonias

Amount Awarded: $220,000.00

Denver (HOC)

Adams County Housing Authority

7190 Colorado Blvd., Commerce City, CO 80022.

Grant Type: Comprehensive

Amount Awarded: $120,000.00

Avenida Guadalupe Association

1327 Guadalupe Street, San Antonio, TX 78207.

Grant Type: Comprehensive

Amount Awarded: $33,732.00

Avenue Community Development Corporation

2505 Washington Avenue, Suite 400, Houston, TX 77007.

Grant Type: Comprehensive

Amount Awarded: $45,000.00

Boulder County Housing Authority

P.O. Box 471, Boulder, CO 80306.

Grant Type: Comprehensive

Amount Awarded: $65,000.00

Carver County Housing & Redevelopment Authority

705 North Walnut Street, Chaska, MN 55318.

Grant Type: Comprehensive

Amount Awarded: $50,000.00

CCCS of Central Oklahoma, Inc.

3230 N. Rockwell Avenue, Bethany, OK 73008.

Grant Type: Comprehensive

Amount Awarded: $45,000.00

CCCS of Salina

1201 West Walnut, Salina, KS 67401.

Grant Type: Comprehensive

Amount Awarded: $45,000.00

Chickasaw Nation

Division of Housing, P.O. Box 788, Ada, OK 74821-0788.

Grant Type: Comprehensive

Amount Awarded: $15,000.00

City of Aurora—Home Ownership Assistance Program

9801 E. Colfax Ave., Aurora, CO 80010.

Grant Type: Comprehensive

Amount Awarded: $50,000.00

City of Fort Worth

Housing Department, 1000 Throckmorton Street, Fort Worth, TX 76102.

Grant Type: Comprehensive

Amount Awarded: $150,000.00

City of San Antonio

115 Plaza de Armas, Suite 230, San Antonio, TX 78205.

Grant Type: Comprehensive

Amount Awarded: $76,937.00

City of St. Paul—Planning & Economic Development

25 West Fourth Street, Room 1100, St. Paul, MN 55102.

Grant Type: Comprehensive

Amount Awarded: $30,000.00

Colorado Rural Housing Development Corp

3621 West 73rd Avenue, Suite C, Westminster, CO 80030.

Grant Type: Comprehensive

Amount Awarded: $75,000.00

Community Action Agency of Oklahoma City and OK/CN Counties

1900 NW 10th Street, Oklahoma City, OK 73106.

Grant Type: Comprehensive

Amount Awarded: $20,975.00

Community Action For Suburban Hennepin

33 Tenth Avenue South, Suite 150, Hopkins, MN 55343.

Grant Type: Comprehensive

Amount Awarded: $145,000.00

Community Action Project of Tulsa County

717 S. Houston Ave, Suite 200, Tulsa, OK 74127.

Grant Type: Comprehensive

Amount Awarded: $50,000.00

Community Action Services

257 East Center Street, Provo, UT 84606.

Grant Type: Comprehensive

Amount Awarded: $50,000.00

Community Action, Inc. of Rock and Walworth Counties

2300 Kellogg Avenue, Janesville, WI 53546.

Grant Type: Comprehensive

Amount Awarded: $20,000.00

Community Development Authority of the City of Madison

215 Martin Luther King Jr Blvd, Ste 318, P.O. Box 1785, Madison, WI 53701-1785.

Grant Type: Comprehensive

Amount Awarded: $100,666.00

Community Development Corporation of Brownsville

901 East Levee Street, Brownsville, TX 78520.

Grant Type: Comprehensive

Amount Awarded: $50,000.00

Crawford-Sebastian Community Development Council, Inc.

4831 Armour, P.O. Box 4069, Fort Smith, AR 72914.

Grant Type: Comprehensive

Amount Awarded: $11,010.00

Dakota Plains Legal Services, Inc.

528 Kansas City Street, Rapid City, SD 57709.

Grant Type: Comprehensive

Amount Awarded: $20,000.00

District 7 Human Resources Development Council

7 North 31st Street, P.O. Box 2016, Billings, MT 59103.

Grant Type: Comprehensive

Amount Awarded: $50,000.00

Family Housing Advisory Services, Inc.

2416 Lake Street, Omaha, NE 68111.

Grant Type: Comprehensive

Amount Awarded: $150,000.00

Family Life Center/Utah State University

493 North 700 East, Logan, UT 84321.

Grant Type: Comprehensive

Amount Awarded: $65,999.00

Family Management Credit Counselors, Inc. (FMCCI)

1409 W. 4th Street, Waterloo, IA 50702.

Grant Type: Comprehensive

Amount Awarded: $26,000.00

Family Service Agency

4504 Burrow Drive, P.O. Box 16615, North Little Rock, AR 72116.

Grant Type: Comprehensive

Amount Awarded: $27,000.00

Greater Kansas City Housing Information Center

6285 Paseo, Kansas City, MO 64110.

Grant Type: Comprehensive

Amount Awarded: $44,085.00

HBC Services, Inc.

217 Wisconsin Ave, Suite 207, Waukesha, WI 53186.

Grant Type: Comprehensive

Amount Awarded: $15,000.00

Housing and Credit Counseling, Inc.

1195 SW Buchanan, Suite 101, Topeka, KS 66604-1183.

Grant Type: Comprehensive

Amount Awarded: $110,000.00

Housing Options Provided for the Elderly

4265 Shaw, St. Louis, MO 63110.

Grant Type: Comprehensive

Amount Awarded: $29,000.00

Housing Partners of Tulsa, Inc.

P.O. Box 6369, Tulsa, OK 74148.

Grant Type: Comprehensive

Amount Awarded: $15,000.00

Housing Solutions for the SW

295 Girard Street, Durango, CO 81303.

Grant Type: Comprehensive

Amount Awarded: $35,000.00

Idabel Housing Authority

P.O. Box 838, Idabel, OK 74745.

Grant Type: Comprehensive

Amount Awarded: $41,719.00

Interfaith of Natrona County, Inc.

1514 East 12th Street, #303, Casper, WY 82601.

Grant Type: Comprehensive

Amount Awarded: $25,000.00

Iowa Citizens for Community Improvement

2005 Forest Avenue, Des Moines, IA 50311.

Grant Type: Comprehensive

Amount Awarded: $25,000.00

Justine Petersen Housing and Reinvestment Corp.

5031 Northrup Ave., St. Louis, MO 63110.

Grant Type: Comprehensive

Amount Awarded: $150,000.00

Ki Bois Community Action Foundation, Inc.

P.O. Box 727, Stigler, OK 74462.

Grant Type: Comprehensive

Amount Awarded: $35,510.00

LaFayette Consolidated Government

P.O. Box 4017-C, Lafayette, LA 70502.

Grant Type: Comprehensive

Amount Awarded: $20,000.00

Legal Services of Eastern Missouri, Inc.

4232 Forest Park Avenue, St. Louis, MO 63108.

Grant Type: Comprehensive

Amount Awarded: $75,000.00

Neighbor to Neighbor, Inc.

424 Pine Street, Suite 203, Fort Collins, CO 80524.

Grant Type: Comprehensive

Amount Awarded: $40,000.00

New Mexico Legal Aid, Inc.

P.O. Box 25486, Albuquerque, NM 87125-5486.

Grant Type: Comprehensive

Amount Awarded: $39,310.00

Norman Housing Authority

700 N. Berry Rd., Norman, OK 73069.

Grant Type: Comprehensive

Amount Awarded: $55,000.00

Northeast Denver Housing Center

1735 Gaylord St., Denver, CO 80206.

Grant Type: Comprehensive

Amount Awarded: $45,000.00

Northeast Kansas Community Action Program (NEK-CAP, Inc.)

P.O. Box 380, Hiawatha, KS 66434.

Grant Type: Comprehensive

Amount Awarded: $15,000.00

Oglala Sioux Tribe Partnership for Housing, Inc.

P.O. Box 3001, Pine Ridge, SD 57770.

Grant Type: Comprehensive

Amount Awarded: $15,000.00

Senior Housing, Inc.

2021 East Hennipin, Suite 372, Minneapolis, MN 55413.

Grant Type: Comprehensive

Amount Awarded: $50,000.00

Southeastern North Dakota Community Action Agency

3233 South University Drive, P.O. Box 2683, Fargo, ND 58104.

Grant Type: Comprehensive

Amount Awarded: $14,000.00

Southern Minnesota Regional Legal Service

46 East Fourth Street, St. Paul, MN 55101.

Grant Type: Comprehensive

Amount Awarded: $75,000.00

St. Martin, Iberia, LaFayette Community Action Agency, Inc.

501 St. John Street, P.O. Box 3343, Lafayette, LA 70501.

Grant Type: Comprehensive

Amount Awarded: $15,000.00

Texas Rural Legal Aid

2201 Post Road, Suite 104, Austin, TX 78704.

Grant Type: Comprehensive

Amount Awarded: $150,000.00

United Neighbors, Inc.

808 Harrison Street, Davenport, IA 52803.

Grant Type: Comprehensive

Amount Awarded: $42,500.00

Universal Housing Development Corp.

P.O. Box 846, Russellville, AR 72811.

Grant Type: Comprehensive

Amount Awarded: $40,000.00

Women's Opportunity and Resource Development

127 N. Higgins, Suite 307, Missoula, MT 59802.

Grant Type: Comprehensive

Amount Awarded: $50,000.00

Your Community Connection

2261 Adams, Ogden, UT 84401.

Grant Type: Comprehensive

Amount Awarded: $18,000.00

Philadelphia (HOC)

Affordable Homes of Millville Ecumenical (AHOME), Inc.

P.O. Box 241, Millville, NJ 08332.

Grant Type: Comprehensive

Amount Awarded: $26,001.00

Albany County Rural Housing Alliance, Inc.

P.O. Box 407, 24 Martin Road, Voorheesville, NY 12186.

Grant Type: Comprehensive

Amount Awarded: $25,623.00

Arundel Community Development Services, Inc.

2666 Riva Road, Suite 210, Annapolis, MD 21224.

Grant Type: Comprehensive

Amount Awarded: $44,337.00

Asian Americans for Equality, Inc.

111 Division Street, New York, NY 10002.

Grant Type: Comprehensive

Amount Awarded: $31,502.00

Berks Community Action Program/Budget Counseling Center

Post Office Box 22, Berks County, Reading, PA 19603-0022.

Grant Type: Comprehensive

Amount Awarded: $35,000.00

Berkshire County Regional Housing Authority

150 North Street, Suite 28, Pittsfield, MA 01201.

Grant Type: Comprehensive

Amount Awarded: $25,000.00

Better Housing League of Greater Cincinnati

2400 Reading Road, Cincinnati, OH 45202.

Grant Type: Comprehensive

Amount Awarded: $24,168.00

Better Neighborhoods, Inc.

986 Albany Street, Schenectady, NY 12307.

Grant Type: Comprehensive

Amount Awarded: $38,000.00

Bishop Sheen Ecumenical Housing Foundation, Inc.

935 East Avenue, Suite 300, Rochester, NY 14607.

Grant Type: Comprehensive

Amount Awarded: $22,334.00

Bucks County Housing Group, Inc.

2324 Second Street Pk, Ste. 17, Wrightstown, PA 18940.

Grant Type: Comprehensive

Amount Awarded: $33,336.00

Burlington County Community Action Program

718 Route 130 South, Burlington, NJ 08016.

Grant Type: Comprehensive

Amount Awarded: $40,400.00

Center City Neighborhood Development Corporation

1824 Main Street, Niagara Falls, NY 14305.

Grant Type: Comprehensive

Amount Awarded: $31,502.00

Center for Family Services, Inc.

213 Center Street, Meadville, PA 16335.

Grant Type: Comprehensive

Amount Awarded: $32,000.00

Central Vermont Community Action Council

195 U.S. Route 302—Berlin, Barre, VT 05641.

Grant Type: Comprehensive

Amount Awarded: $40,670.00

Chautauqua Opportunities, Inc.

17 West Courtney Street, Dunkirk, NY 14048.

Grant Type: Comprehensive

Amount Awarded: $49,838.00

Chester Community Improvement Project

412 Avenue of the States, Chester, PA 19016.

Grant Type: Comprehensive

Amount Awarded: $35,169.00

Children's and Family Service

535 Marmion Avenue, Youngstown, OH 44502.

Grant Type: Comprehensive

Amount Awarded: $13,253.00

Citizen Action of New Jersey

400 Main Street, Hackensack, NJ 07601.

Grant Type: Comprehensive

Amount Awarded: $49,838.00

City of Frederick

100 South Market Street, Frederick County, Frederick, MD 21701.

Grant Type: Comprehensive

Amount Awarded: $20,000.00

Coastal Economic Development Corp.

34 Wing Farm Parkway, Bath, ME 04530.

Grant Type: Comprehensive

Amount Awarded: $30,000.00

Coastal Enterprises, Inc.

36 Water Street, P.O. Box 268, Wiscasset, ME 04578.

Grant Type: Comprehensive

Amount Awarded: $30,000.00

Commission on Economic Opportunity

165 Amber Lane, P.O. Box 1127, Wilkes-Barre, PA 18703.

Grant Type: Comprehensive

Amount Awarded: $20,000.00

Community Action Commission of Belmont Co.

410 Fox-Shannon Place, St. Clairsville, OH 43950.

Grant Type: Comprehensive

Amount Awarded: $35,169.00

Community Action Committee of the Lehigh Valley, Inc.

1337 E. Fifth Street, Bethlehem, PA 18018.

Grant Type: Comprehensive

Amount Awarded: $19,122.00

Community Action Program—Madison County

3 East Main Street, P.O. Box 249, Morrisville, NY 13408.

Grant Type: Comprehensive

Amount Awarded: $30,575.00

Community Action Southwest

150 West Beau Street, Suite 304, Washington, PA 15301.

Grant Type: Comprehensive

Amount Awarded: $20,000.00

Community Assistance Network, Inc.

7701 Dunmanway, Baltimore, MD 21222.

Grant Type: Comprehensive

Amount Awarded: $27,835.00

Community Development Corporation of Long Island

2100 Middle Country Road, Centereach, NY 11720.

Grant Type: Comprehensive

Amount Awarded: $18,667.00

Community Housing, Inc.

613 Washington Street, Wilmington, DE 19801.

Grant Type: Comprehensive

Amount Awarded: $20,000.00

Community Service Network Inc.

52 Broadway, Stoneham, MA 02180.

Grant Type: Comprehensive

Amount Awarded: $20,000.00

Consumer Credit and Budget Counseling, Inc.

299 S. Shore Road, U.S. Route 9, Cape May, NJ 08223.

Grant Type: Comprehensive

Amount Awarded: $33,336.00

Cortland Housing Assistance Council, Inc.

159 Main Street, Cortland, NY 13045.

Grant Type: Comprehensive

Amount Awarded: $15,000.00

County Commissioners of Carroll County

10 Distillery Drive, Suite 101, Westminster, MD 21157-5194.

Grant Type: Comprehensive

Amount Awarded: $20,501.00

Credit Counseling Centers, Inc.

111 Westcott Road, South Portland, ME 04106.

Grant Type: Comprehensive

Amount Awarded: $38,836.00

Cypress Hills Local Development Corp.

625 Jamaica Avenue, Kings County, Brooklyn, NY 11208.

Grant Type: Comprehensive

Amount Awarded: $27,835.00

Detroit Non-Profit Housing Corporation

1200 Sixth Street, Suite 200, Detroit, MI 48226.

Grant Type: Comprehensive

Amount Awarded: $15,000.00

Fair Housing Contact Service

333 South Main Street—Suite 300, Akron, OH 44308.

Grant Type: Comprehensive

Amount Awarded: $27,835.00

Fair Housing Council of Northern New Jersey

131 Main Street, Hackensack, NJ 07601.

Grant Type: Comprehensive

Amount Awarded: $35,169.00

Fair Housing Resource Center, Inc.

54 S. State Street, Suite 303, Painesville, OH 44060.

Grant Type: Comprehensive

Amount Awarded: $27,835.00

Family and Children's Association

336 Fulton Avenue, Hempstead, NY 11550.

Grant Type: Comprehensive

Amount Awarded: $35,169.00

Fayette County Community Action Agency, Inc.

140 N. Beeson Avenue, Uniontown, PA 15401.

Grant Type: Comprehensive

Amount Awarded: $15,000.00

First State Community Action Agency, Inc.

308 North Railroad Avenue, P.O. Box 877, Georgetown, DE 19947.

Grant Type: Comprehensive

Amount Awarded: $38,280.00

Garden State Consumer Credit Counseling, Inc.

225 Willowbrook Road, Freehold, NJ 07728.

Grant Type: Comprehensive

Amount Awarded: $20,197.00

Garfield Jubilee Association, Inc.

5138 Penn Avenue, Pittsburgh, PA 15224.

Grant Type: Comprehensive

Amount Awarded: $20,000.00

Garrett County Community Action Committee, Inc.

104 E. Center Street, Oakland, MD 21550.

Grant Type: Comprehensive

Amount Awarded: $35,169.00

Greater Boston Legal Services, Inc.

197 Friend Street, Boston, MA 02114.

Grant Type: Comprehensive

Amount Awarded: $38,836.00

Greater Eastside Community Association

2804 N. Franklin Avenue, Flint, MI 48506.

Grant Type: Comprehensive

Amount Awarded: $22,334.00

Hill Development Corporation of New Haven

649 Howard Avenue, New Haven, CT 06519.

Grant Type: Comprehensive

Amount Awarded: $48,004.00

Home Partnership, Inc.

1221 B Brass Mill Road, Belcamp, MD 21017.

Grant Type: Comprehensive

Amount Awarded: $20,501.00

Homes on the Hill Community Development Corporation

12 South Terrace Avenue, Columbus, OH 43204.

Grant Type: Comprehensive

Amount Awarded: $18,667.00

Housing Authority of the City of Paterson

60 Van Houten Street, P.O. Box H, Paterson, NJ 07505.

Grant Type: Comprehensive

Amount Awarded: $29,669.00

Housing Authority of the County of Butler

114 Woody Drive, Butler, PA 16001.

Grant Type: Comprehensive

Amount Awarded: $33,336.00

Housing Council in the Monroe County Area, Inc.

183 E. Main Street, Suite 1100, Rochester, NY 14604.

Grant Type: Comprehensive

Amount Awarded: $46,171.00

Housing Council of York, Inc.

35 South Duke Street, York County, York, PA 17403.

Grant Type: Comprehensive

Amount Awarded: $36,000.00

Housing Counseling Services, Inc.

2430 Ontario Road, NW., Washington, DC 20009.

Grant Type: Comprehensive

Amount Awarded: $53,505.00

Housing Initiative Partnership, Inc.

4310 Gallatin Street, 3rd Floor, Hyattsville, MD 20781.

Grant Type: Comprehensive

Amount Awarded: $27,835.00

Housing Opportunities Made Equal of Richmond, Inc.

2201 West Broad Street, Suite 200, Richmond, VA 23220.

Grant Type: Comprehensive

Amount Awarded: $55,339.00

Housing Partnership for Morris County, Inc.

22 East Blackwell Street, Dover, NJ 07801.

Grant Type: Comprehensive

Amount Awarded: $35,000.00

Inner City Christian Federation

515 Jefferson SE, Grand Rapids, MI 49503.

Grant Type: Comprehensive

Amount Awarded: $35,169.00

Intercultural Family Services

4225 Chestnut Street, Philadelphia, PA 19104.

Grant Type: Comprehensive

Amount Awarded: $27,835.00

Isles, Inc.

10 Wood Street, Trenton, NJ 08618.

Grant Type: Comprehensive

Amount Awarded: $20,000.00

Jersey Counseling & Housing Development Inc.

1840 South Broadway, Camden City, NJ 08104.

Grant Type: Comprehensive

Amount Awarded: $36,000.00

Kanawha Institute for Social Research and Action

124 Marshall Avenue, Dunbar, WV 25064.

Grant Type: Comprehensive

Amount Awarded: $33,336.00

Kiryas Joel Community Housing Development Organization, Inc.

51 Forest Road, Suite 360, Monroe, NY 10950.

Grant Type: Comprehensive

Amount Awarded: $25,000.00

Laconia Area Community Land Trust, Inc.

658 Union Avenue, P.O. Box 6104, Laconia, NH 03247.

Grant Type: Comprehensive

Amount Awarded: $40,000.00

Lighthouse Community Development

46156 Woodward Avenue, Pontiac, MI 48342.

Grant Type: Comprehensive

Amount Awarded: $35,169.00

Long Island Housing Services, Inc.

3900 Veterans Memorial Highway, Suite 251, Bohemia, NY 11716.

Grant Type: Comprehensive

Amount Awarded: $53,505.00

Lutheran Housing Corporation

13944 Euclid Avenue, Suite 208, East Cleveland, OH 44112.

Grant Type: Comprehensive

Amount Awarded: $20,000.00

Lynchburg Community Action Group, Inc.

926 Commerce Street, Lynchburg, VA 24504.

Grant Type: Comprehensive

Amount Awarded: $42,503.00

Marshall Heights Community Development Organization

3939 Benning Road, NE., Washington, DC 20019.

Grant Type: Comprehensive

Amount Awarded: $33,336.00

Metro Interfaith Services, Inc.

21 New Street, Binghamton, NY 13903.

Grant Type: Comprehensive

Amount Awarded: $20,000.00

Michigan Housing Counselors, Inc.

237 S.B. Gratiot Avenue, Mt. Clemens, MI 48043.

Grant Type: Comprehensive

Amount Awarded: $27,000.00

Mid-Ohio Regional Planning Commission

285 East Main Street, Franklin County, Columbus, OH 43215-5572.

Grant Type: Comprehensive

Amount Awarded: $18,667.00

Monmouth County Board of Chosen Freeholders

P.O. Box 3000, Freehold, NJ 07728.

Grant Type: Comprehensive

Amount Awarded: $25,107.00

Ncall Research, Inc.

363 Saulsbury Road, Dover, DE 19904.

Grant Type: Comprehensive

Amount Awarded: $35,169.00

Near Northeast Community Improvement Corporation

1326 Florida Avenue, NE., Washington, DC 20002.

Grant Type: Comprehensive

Amount Awarded: $28,962.00

Neighborhood House, Inc.

1218 B Street, New Castle County, Wilmington, DE 19801.

Grant Type: Comprehensive

Amount Awarded: $29,669.00

Neighborhood Housing Services of New Britain, Inc.

223 Broad Street, New Britian, CT 06053.

Grant Type: Comprehensive

Amount Awarded: $44,337.00

Neighbors Helping Neighbors, Inc.

443 39th Street, Brooklyn, NY 11232.

Grant Type: Comprehensive

Amount Awarded: $48,004.00

Northfield Community LDC OF SI, Inc.

160 Heberton Avenue, Staten Island, NY 10302.

Grant Type: Comprehensive

Amount Awarded: $37,003.00

Northwest Counseling Service, Inc.

5001 North Broad Street, Philadelphia, PA 19141.

Grant Type: Comprehensive

Amount Awarded: $42,500.00

Northwest Michigan Human Services Agency, Inc.

3963 Three Mile Rd, Traverse City, MI 49686.

Grant Type: Comprehensive

Amount Awarded: $49,838.00

Oakland County Michigan

1200 North Telegraph Road, Oakland County, Pontiac, MI 48341-0414.

Grant Type: Comprehensive

Amount Awarded: $38,836.00

Office of Human Affairs

6060 Jefferson Avenue., Suite 12C, P.O. Box 37, Newport News, VA 23607.

Grant Type: Comprehensive

Amount Awarded: $9,466.00

Opportunities For Chenango, Inc.

P.O. Box 470, 44 West Main Street, Norwich, NY 13815-0470.

Grant Type: Comprehensive

Amount Awarded: $30,000.00

Oswego Housing Development Council

2822 State Rte. 69, P.O. Box 147, Parish, NY 13131.

Grant Type: Comprehensive

Amount Awarded: $19,000.00

People Incorporated of Southwest Virginia

1173 West Main Street, Abington, VA 24210.

Grant Type: Comprehensive

Amount Awarded: $35,000.00

Peoples Regional Opportunity Program (PROP)

510 Cumberland Avenue, Portland, ME 04101.

Grant Type: Comprehensive

Amount Awarded: $35,000.00

Philadelphia Council for Community Advancement

100 North 17th Street, Suite 700, Philadelphia, PA 19103.

Grant Type: Comprehensive

Amount Awarded: $29,000.00

Phoenix Non-Profit Housing Corp.

1640 Porter Street, Detroit, MI 48216.

Grant Type: Comprehensive

Amount Awarded: $35,169.00

Piedmont Housing Alliance

2000 Holiday Drive, Suite 200, Charlottesville, VA 22901.

Grant Type: Comprehensive

Amount Awarded: $38,836.00

Pine Tree Legal Assistance, Inc.

88 Federal St., Portland, ME 04112.

Grant Type: Comprehensive

Amount Awarded: $19,946.00

Plymouth Redevelopment Authority

11 Lincoln Street, Plymouth, MA 02360.

Grant Type: Comprehensive

Amount Awarded: $25,000.00

Pro-Home, Inc.

45 School Street, Taunton, MA 02780.

Grant Type: Comprehensive

Amount Awarded: $27,835.00

Putnam County Housing Corporation

11 Seminary Hill Road, Carmel, NY 10512.

Grant Type: Comprehensive

Amount Awarded: $35,000.00

Quincy Community Action Programs, Inc.

1509 Hancock Street, Norfolk County, Quincy, MA 02169.

Grant Type: Comprehensive

Amount Awarded: $35,000.00

Rockland Housing Action Coalition, Inc.

95 New Clarkstown Road, Nanuet, NY 10954.

Grant Type: Comprehensive

Amount Awarded: $30,000.00

Rural Sullivan Housing Corporation

P.O. Box 1497, Monticello, NY 12701.

Grant Type: Comprehensive

Amount Awarded: $15,000.00

Rural Ulster Preservation Company, Inc.

289 Fair Street, Ulster County, Kingston, NY 12401.

Grant Type: Comprehensive

Amount Awarded: $33,431.00

Schuylkill Community Action

206 North Second Street, Pottsville, PA 17901.

Grant Type: Comprehensive

Amount Awarded: $25,000.00

Senior Citizens United Community Services of CC, Inc.

146 Black Horse Pike, Mt. Ephraim, NJ 08059.

Grant Type: Comprehensive

Amount Awarded: $15,000.00

Skyline Cap, Inc.

P.O. Box 588, Madison, VA 22727.

Grant Type: Comprehensive

Amount Awarded: $37,003.00

Somerset County Coalition on Affordable Housing

One West Main Street, 2nd Floor, Somerville, NJ 08876.

Grant Type: Comprehensive

Amount Awarded: $45,000.00

Southeast Community Development Corporation

10 South Wolfe Street, Baltimore, MD 21231.

Grant Type: Comprehensive

Amount Awarded: $27,835.00

Southwest Michigan Community Action Agency

185 E. Main, Suite 200, Benton Harbor, MI 49022-4432.

Grant Type: Comprehensive

Amount Awarded: $8,920.00

St. James Community Development Corporation

402 Broad Street, Newark, NJ 07104.

Grant Type: Comprehensive

Amount Awarded: $15,000.00

Stark Metropolitan Housing Authority

400 E. Tuscarawas, Canton, OH 44702.

Grant Type: Comprehensive

Amount Awarded: $23,535.00

Strycker's Bay Neighborhood Council, Inc.

63 West 87th Street, New York, NY 10024.

Grant Type: Comprehensive

Amount Awarded: $35,169.00

Tabor Community Services Inc.

439 East King St., Lancaster, PA 17602.

Grant Type: Comprehensive

Amount Awarded: $42,503.00

Telamon Corporation

4913 Fithzhugh Avenue, Suite 202, Richmond, VA 23230.

Grant Type: Comprehensive

Amount Awarded: $40,000.00

The Way Home

214 Spruce Street, Manchester, NH 03103.

Grant Type: Comprehensive

Amount Awarded: $53,505.00

Three Rivers Center for Independent Living Services (TRCIL)

900 Rebecca Avenue, Wilkinsburg, PA 15221.

Grant Type: Comprehensive

Amount Awarded: $18,667.00

Total Action Against Poverty (TAP)

145 Campbell Avenue, S.W., P.O. Box 2868, Roanoke, VA 24001-2868.

Grant Type: Comprehensive

Amount Awarded: $34,506.00

TRI County Housing Council

143 Hibbard Road, P.O. Box 451,

Chemung, NY 14814.

Grant Type: Comprehensive

Amount Awarded: $28,727.00

United Neighborhood Centers of Lackawanna County, Inc.

425 Alder Street, Scranton, PA 18505.

Grant Type: Comprehensive

Amount Awarded: $42,503.00

University Legal Services

300 I Street, NE, Suite 130, Washington, DC 20002.

Grant Type: Comprehensive

Amount Awarded: $27,835.00

Urban League of Rhode Island, Inc.

246 Prairie Avenue, Providence County, Providence, RI 02905.

Grant Type: Comprehensive

Amount Awarded: $33,245.00

Virginia Cooperative Extension, Prince William

8033 Ashton Avenue, Suite 105

Manassas, VA 20109.

Grant Type: Comprehensive

Amount Awarded: $38,836.00

Virginia Eastern Shore Economic Empowerment and HSG. Corp.

P.O. Box 814, Nassawadox, VA 23413.

Grant Type: Comprehensive

Amount Awarded: $10,000.00

Washington County Community Housing Resource Board, Inc.

21 E. Franklin Street, Hagerstown, MD 21740.

Grant Type: Comprehensive

Amount Awarded: $25,000.00

Westchester Residential Opportunities, Inc.

470 Mamaroneck Avenue, Suite 410

White Plains, NY 10605.

Grant Type: Comprehensive

Amount Awarded: $22,334.00

WSOS Community Action Commission, Inc.

109 South Front Street, Fremont, OH 43420.

Grant Type: Comprehensive

Amount Awarded: $33,336.00

YWCA of New Castle County

233 King Street, Wilmington, DE 19801.

Grant Type: Comprehensive

Amount Awarded: $20,000.00

Santa Ana (HOC)

Access, Inc.

3630 Aviation Way, P.O. Box 4666, Medford, OR 97537.

Grant Type: Comprehensive

Amount Awarded: $15,000.00

Administration of Resources and Choices

209 S. Tucson Blvd., P.O. Box 86802,

Tucson, AZ 85754.

Grant Type: Comprehensive

Amount Awarded: $50,465.00

CCCS of Alaska

209 East 4th Avenue, Municipality of Anchorage, Anchorage, AK 99501.

Grant Type: Comprehensive

Amount Awarded: $95,352.00

CCCS of Mid Counties

2575 Grand Canal Blvd., Suite 100, Stockton, CA 95207.

Grant Type: Comprehensive

Amount Awarded: $150,000.00

CCCS of Orange County

1920 Old Tustin Avenue, Santa Ana, CA 92711-1330.

Grant Type: Comprehensive

Amount Awarded: $77,889.00

CCCS of Southern Nevada

3650 S. Decatur, Suite 30, Las Vegas, NV 89103.

Grant Type: Comprehensive

Amount Awarded: $100,000.00

City of Anaheim Housing Authority

201 S. Anaheim Blvd. Suite 203, Anaheim, CA 92805.

Grant Type: Comprehensive

Amount Awarded: $68,567.00

City of Vacaville, Office of Housing and Redevelopment

40 Eldridge Avenue, Suite 2, Vacaville, CA 95688.

Grant Type: Comprehensive

Amount Awarded: $15,000.00

Community Action Partnership

124 New 6TH Street, Lewiston, ID 83501

Grant Type: Comprehensive

Amount Awarded: $55,000.00

Community Housing and Credit Counseling Center (CHCCC)

1001 Willow St., Chico, CA 95928.

Grant Type: Comprehensive

Amount Awarded: $40,000.00

Consumer Counseling Northwest

11306 Bridgeport Way SW, Tacoma, WA 98499.

Grant Type: Comprehensive

Amount Awarded: $20,000.00

Consumer Credit Counselors of Kern County, Inc.

5300 Lennox Avenue, Suite 200, Bakersfield, CA 93309,

Grant Type: Comprehensive

Amount Awarded: $68,567.00.

County of Santa Cruz Housing Authority

2160 41st Avenue, Capitola, CA 95010-2060.

Grant Type: Comprehensive

Amount Awarded: $30,000.

East LA Community Corporation

530 South Boyle Avenue,

Los Angeles, CA 90033.

Grant Type: Comprehensive

Amount Awarded: $49,777.00

Eden Council For Hope and Opportunity

770 A Street,

Hayward, CA 94541.

Grant Type: Comprehensive

Amount Awarded: $67,230.00

Fair Housing Council of Orange County

201 So. Broadway,

Santa Ana, CA 92701.

Grant Type: Comprehensive

Amount Awarded: $63,000.00

Family Housing Resources, Inc.

3002 N. Campbell Avenue, Suite 200, Tucson, AZ 85719.

Grant Type: Comprehensive

Amount Awarded: $58,000.00

Fremont Public Association

P.O. Box 31151, Seattle, WA 98103.

Grant Type: Comprehensive

Amount Awarded: $90,000.00

Inland Fair Housing and Mediation Board

1005 Begonia Avenue, Ontario, CA 91762.

Grant Type: Comprehensive

Amount Awarded: $137,551.00

Institute of Human Services, Inc.

546 Ka'haahi Street, Honolulu, HI 96817.

Grant Type: Comprehensive

Amount Awarded: $34,000.00

Labor's Community Service Agency

5818 N. 7th Street. #100, Phoenix, AZ 85014.

Grant Type: Comprehensive

Amount Awarded: $54,784.00

Legal Aid Society of Hawaii

924 Bethel Street,

Honolulu, HI 96813.

Grant Type: Comprehensive

Amount Awarded: $40,000.00

Neighborhood House Association

5660 Copley Drive, San Diego, CA 92111.

Grant Type: Comprehensive

Amount Awarded: $100,171.00

Open Door Counseling Social Service

34420 SW Tualatin Valley Highway, Hillsboro, OR 97123.

Grant Type: Comprehensive

Amount Awarded: $50,000.00

Pierce County Department of Community Services

8811 South Tacoma Way, Suite 201,

Lakewood, WA 98499-4588.

Grant Type: Comprehensive

Amount Awarded: $35,000.00

Portland Housing Center

3233 NE Sandy Boulevard,

Portland, OR 97232.

Grant Type: Comprehensive

Amount Awarded: $60,000.00

San Diego Home Loan Counseling Service

3180 University Ave., Suite 430, San Diego, CA 92104.

Grant Type: Comprehensive

Amount Awarded: $100,000.00

Spokane Neighborhood Action Program

2116 East First Avenue,

Spokane, WA 99202.

Grant Type: Comprehensive

Amount Awarded: $107,000.00

Springboard, Non-Profit Consumer Credit Management

6370 Magnolia Ave., Suite 200, Riverside, CA 92056

Grant Type: Comprehensive

Amount Awarded: $150,000.00

TMM Family Services, Inc.

3127 East Adams St., Tucson, AZ 85716.

Grant Type: Comprehensive

Amount Awarded: $25,000.00

Umpqua Community Action Network

2448 W. Harvard, Roseburg, OR 97470.

Grant Type: Comprehensive

Amount Awarded: $40,000.00

Washoe County Dept. of Senior Services

1155 East Ninth Street, Reno, NV 89511.

Grant Type: Comprehensive

Amount Awarded: $40,000.00.

Washoe Legal Services

650 Tahoe Street, Reno, NV 89509.

Grant Type: Comprehensive

Amount Awarded: $40,000.00

Women's Development Center,

953 E. Sahara Suite #201, Las Vegas, NV 89104.

Grant Type: Comprehensive

Amount Awarded: $40,000.00

Predatory Lending (38)

Acorn Housing Corporation

846 N. Broad St., Philadelphia, PA 19130.

Grant Type: Predatory Lending

Amount Awarded: $380,282.00

Anaheim Housing Authority

201 S. Anaheim Blvd., Suite 203, Anaheim, CA 92805.

Grant Type: Predatory Lending

Amount Awarded: $25,351.00

Carver County Housing and Redevelopment Authority

705 N. Walnut Street, Chaska, MN 55318.

Grant Type: Predatory Lending

Amount Awarded: $25,000.00

Catholic Community Services, Inc.

1416 Cumming Ave, Superior, WI 54880.

Grant Type: Predatory Lending

Amount Awarded: $20,000.00

Citizen Action of New Jersey

400 Main Street, Hackensack, NJ 07601.

Grant Type: Predatory Lending

Amount Awarded: $40,000.00

City of San Antonio

115 Plaza De Armas, Suite 230, San Antonio, TX 78205.

Grant Type: Predatory Lending

Amount Awarded: $39,176.00

Commission on Economic Opportunity

165 Amber Lane, P. O. Box 1127, Wilkes-Barre, PA 18703-1127.

Grant Type: Predatory Lending

Amount Awarded: $15,000.00

Community Action Services

815 South Freedom Blvd., Suite 100, Provo, UT 84601.

Grant Type: Predatory Lending

Amount Awarded: $7,965.00

Community and Economic Development Association

208 S. LaSalle Street, Suite 1900, Chicago, IL 60604.

Grant Type: Predatory Lending

Amount Awarded: $30,707.00

Community Development Corp. of Brownsville

901 E. Levee St., Brownsville, TX 78520.

Grant Type: Predatory Lending

Amount Awarded: $25,000.00

Community Service Network Inc.

52 Broadway, Stoneham, ME 02180-1003.

Grant Type: Predatory Lending

Amount Awarded: $15,000.00

Family Housing Advisory Services, Inc.

2416 Lake Street, Omaha, NE 68111.

Grant Type: Predatory Lending

Amount Awarded: $37,843.00

Fremont Public Association

P.O. Box 31151, Seattle, WA 98103-1151.

Grant Type: Predatory Lending

Amount Awarded: $37,843.00

Housing Council in the Monroe County Area, Inc.

183 E. Main Street, Suite 1100, Rochester, NY 14604.

Grant Type: Predatory Lending

Amount Awarded: $36,059.00

Housing Council of York

35 S. Duke Street, York, PA 17403.

Grant Type: Predatory Lending

Amount Awarded: $30,707.00

Housing Opportunities Made Equal of Richmond, Inc.

2201 West Broad Street, Suite 200, Richmond, VA 23220.

Grant Type: Predatory Lending

Amount Awarded: $40,000.00

Justine Petersen Housing and Reinvestment

5031 Northrup Ave., St. Louis, MO 63110.

Grant Type: Predatory Lending

Amount Awarded: $40,000.00

Legal Aid Society of Hawaii

924 Bethel, Honolulu, HI 96813.

Grant Type: Predatory Lending

Amount Awarded: $22,858.00

Legal Assistance Foundation of Metropolitan Chicago

111 West Jackson Blvd., Chicago, IL 60604.

Grant Type: Predatory Lending

Amount Awarded: $39,627.00

Legal Services of Eastern Mo, Inc.

4232 Forest Park Ave., St.Louis, MO 63108.

Grant Type: Predatory Lending

Amount Awarded: $36,059.00

Memphis Area Legal Services, Inc.

109 N. Main, 2nd Floor, Memphis, TN 38103.

Grant Type: Predatory Lending

Amount Awarded: $36,059.00

Mobile Housing Board

151 S. Claiborne St., Mobile, AL 36602.

Grant Type: Predatory Lending

Amount Awarded: $40,000.00

Nareb Investment Div. INC.—HCA

1301 85th Ave., Oakland, CA 94621.

Grant Type: Predatory Lending

Amount Awarded: $367,605.00

National Foundation For Credit Counseling, Inc.

801 Roder Road, #900, Silver Spring, MD 20910.

Grant Type: Predatory Lending

Amount Awarded: $371,831.00

NHS of New Britain, Inc.

223 Broad Street, New Britain, CT 06053.

Grant Type: Predatory Lending

Amount Awarded: $5,157.00

Northwest Counseling Services, Inc.

5001 N. Broad St., Philadelphia, PA 19141.

Grant Type: Predatory Lending

Amount Awarded: $32,490.00

Oglala Sioux Tribe Partnership for Housing, Inc.

P. O. Box 3001, Pine Ridge, SD 57770.

Grant Type: Predatory Lending

Amount Awarded: $28,922.00

Phoenix Housing and Counseling Non-Profit Inc.

1640 Porter, Detroit, MI 48216.

Grant Type: Predatory Lending

Amount Awarded: $40,000.00

Piedmont Housing Alliance, Inc.

2000 Holiday Drive, Suite 200, Charlottesville, VA 22901.

Grant Type: Predatory Lending

Amount Awarded: $40,000.00

Rhode Island Housing and Mortgage Finance

44 Washington Street, Providence, RI 02903.

Grant Type: Predatory Lending

Amount Awarded: $110,810.00

Southeast Community Development Corp.

10 South Wolfe Street, Baltimore, MD 21231.

Grant Type: Predatory Lending

Amount Awarded: $25,467.00

St. Martin Center, Inc.

1701 Parade Street, Erie, PA 16503.

Grant Type: Predatory Lending

Amount Awarded: $25,000.00

Structured Employment Economic Development Corporation

915 Broadway 17th Floor, New York, NY 10010.

Grant Type: Predatory Lending

Amount Awarded: $380,282.00

Tabor Community Services Inc.

439 E. King St, Lancaster, PA 17602.

Grant Type: Predatory Lending

Amount Awarded: $26,000.00

Utah State University Family Life Center

493 N. 700 East, Logan, UT 84321-4231.

Grant Type: Predatory Lending

Amount Awarded: $7,788.00

Washington State Housing Finance Commission

1000 Second Ave., Suite 2700, Seattle, WA 98104-1046.

Grant Type: Predatory Lending

Amount Awarded: $94,595.00

West Tennessee Legal Services

27-A Brentshire Square, P. O. Box 2066, Jackson, TN 38302-2066.

Grant Type: Predatory Lending

Amount Awarded: $94,595.00

Westchester Residential Opportunities Inc.

470 Mamaroneck Ave, Suite 410, White Plains, NY 10605.

Grant Type: Predatory Lending

Amount Awarded: $28,922.00

Section 8 (39)

Acorn Housing Corporation

846 N. Broad Street, Philadelphia, PA 19130.

Grant Type: Section 8

Amount Awarded: $250,962.00

Anahein Housing Authority

201 South Anaheim Blvd. Suite 203, Anaheim, CA 92805.

Grant Type: Section 8

Amount Awarded: $31,305.00

Appalachian Housing and Redevelopment Corporation

800 North Fifth Avenue, Rome, GA 30162.

Grant Type: Section 8

Amount Awarded: $15,600.00

Arundel Community Development Services

2666 Riva Road Suite 210, Annapolis, MD 21224.

Grant Type: Section 8

Amount Awarded: $15,000.00

Belmont Shelter Corp.

1195 Main Street, Buffalo, NY 14209.

Grant Type: Section 8

Amount Awarded: $40,363.00

Better Neighborhoods, Inc.

986 Albany Street, Schenectady, NY 12307.

Grant Type: Section 8

Amount Awarded: $15,000.00

Citizen Action of New Jersey

400 Main Street, Hackensack, NJ 07601.

Grant Type: Section 8

Amount Awarded: $36,740.00

Coastal Enterprises, Inc.

36 Water Street, P.O. Box 268, Wiscasset, ME 04578.

Grant Type: Section 8

Amount Awarded: $16,000.00

Commission on Economic Opportunity

165 Amber Lane, P.O. Box 1127, Luzerne, PA 18703-1127.

Grant Type: Section 8

Amount Awarded: $10,000.00

Community Action Agency of Northwest AL, Inc.

745 Thompson Street, Florence, AL 35630.

Grant Type: Section 8

Amount Awarded: $15,000.00

Community Action Project of Tulsa County

717 S. Houston, Suite 200, Tulsa, OK 74127.

Grant Type: Section 8

Amount Awarded: $18,000.00

Community Development Corp. of Brownsville

901 E. Levee Street, Brownsville, TX 78520.

Grant Type: Section 8

Amount Awarded: $30,000.00

Community Development Program Center of Nevada

2009 Alta Driva, Las Vegas, NV 89106.

Grant Type: Section 8

Amount Awarded: $47,610.00

Consumer Credit Counselors of Kern County

5300 Lennox Avenue, Suite 200, Bakersfield, CA 93309.

Grant Type: Section 8

Amount Awarded: $17,400.00

Dupage Homeownership Center, Inc.

1333 North Main Street, Wheaton, IL 60187.

Grant Type: Section 8

Amount Awarded: $10,000.00

Family Counseling Service, Inc.

1639 Atlantic Blvd., Jacksonville, FL 32207.

Grant Type: Section 8

Amount Awarded: $25,000.00

Georgia Housing and Finance Authority

60 Executive Park South, NE, Atlanta, GA 30329-2231.

Grant Type: Section 8

Amount Awarded: $21,280.00

Housing Authority of the City of Fresno

1331 Fulton Mall, P.O. Box 11985, Fresno, CA 93776-1985.

Grant Type: Section 8

Amount Awarded: $36,740.00

Housing Authority of the City of Paterson

60 Van Houten Street, P.O. Box H, Paterson, NJ 07505.

Grant Type: Section 8

Amount Awarded: $36,740.00

Housing Authority of the County of Butler

114 Woody Drive, Butler, PA 16001.

Grant Type: Section 8

Amount Awarded: $33,116.00

Inner City Christian Federation

515 Jefferson SE, Gran Rapids, MI 49503.

Grant Type: Section 8

Amount Awarded: $30,000.00

Latin United Community Housing Association

3541 W. North Avenue, Chicago, IL 60647.

Grant Type: Section 8

Amount Awarded: $29,493.00

Legal Aid Society of Hawaii

924 Bethel, Honolulu, HI 96813.

Grant Type: Section 8

Amount Awarded: $23,050.00

Louisville Urban League

1535 West Broadway, Louisville, KY 40203.

Grant Type: Section 8

Amount Awarded: $42,175.00

Mobile Housing Board

151 S. Claiborne Street, Mobile, AL 36602.

Grant Type: Section 8

Amount Awarded: $45,798.00

National Council of La Raza

1111 19th Street, NW., Suite 1000, Washington, DC 20036.

Grant Type: Section 8

Amount Awarded: $203,846.00

National Credit Union Foundation

601 Pennsylvania Avenue NW., Suite 600, South Building, Washington, DC 20004.

Grant Type: Section 8

Amount Awarded: $224,038.00

Neighborhood Housing Services of NYC

307 West 36th Street, 12 Fl., New York, NY 10018.

Grant Type: Section 8

Amount Awarded: $33,116.00

Neighborhood Reinvestment Corporation

1325 G Street, NW., Suite 800, Washington, DC 20005.

Grant Type: Section 8

Amount Awarded: $271,154.00

New Hampshire Housing Finance Authority

32 Constitutition Drive, Bedford, NH 03110.

Grant Type: Section 8

Amount Awarded: $46,134.00

North Dakota Housing Finance Agency

1500 East Capitol Avenue, P.O. Box 1535, Bismarck, ND 58502.

Grant Type: Section 8

Amount Awarded: $20,000.00

Philadelphia Council for Community Advancement

100 North 17th Street, Suite 700, Philadelphia, PA 19103.

Grant Type: Section 8

Amount Awarded: $42,754.00

Rural Ulster Preservation Company, Inc.

289 Fair Street, Kingston, NY 12401.

Grant Type: Section 8

Amount Awarded: $19,336.00

Sandhills Community Action Program, Inc.

103 Saunders Street, Carthage, NC 28327.

Grant Type: Section 8

Amount Awarded: $31,305.00

Spanish Coalition for Housing

4035 West North Avenue, Chicago, IL 60639.

Grant Type: Section 8

Amount Awarded: $43,986.00

Tabor Community Services, Inc.

439 East King Street, Lancaster, PA 17602.

Grant Type: Section 8

Amount Awarded: $43,986.00

The Housing Partnership, Inc.

333 Guthrie Green, Suite 404, Lousiville, KY 40202.

Grant Type: Section 8

Amount Awarded: $43,986.00

Twin Rivers Opportunities, Inc.

318 Craven Street, New Bern, NC 28563.

Grant Type: Section 8

Amount Awarded: $21,401.00

Washington State Housing Finance Comission

1000 Second Avenue, Suite 2700, Seattle, WA 98104-1046.

Grant Type: Section 8

Amount Awarded: $62,586.00

Cabarrus County Community Development Corporation

P.O. Box 1095, Concord, NC 28026.

Grant Type:

Amount Type: $40,000.00

[FR Doc. 04-3761 Filed 2-20-04; 8:45 am]

BILLING CODE 4210-27-P